DEPARTMENT OF HEALTH AND HUMAN SERVICES

Food and Drug Administration

[Docket No. FDA-2014-N-0001]

Risk Communication Advisory Committee; Notice of Postponement of Meeting

AGENCY: Food and Drug Administration, HHS.

ACTION: Notice.

SUMMARY: The Food and Drug Administration (FDA) is postponing the meeting of the Risk Communication Advisory Committee scheduled for February 3 and 4, 2014. The meeting was announced in the Federal Register of January 3, 2014 (79 FR 398). The meeting is postponed due to unavoidable operational changes. Future meeting dates will be announced in the Federal Register.

FOR FURTHER INFORMATION CONTACT: Luis G. Bravo, Office of Planning, Food and Drug Administration, 10903 New Hampshire Ave., Bldg. 32, Rm. 3274, Silver Spring, MD 20993, 240-402-5274, or email: RCAC@fda.hhs.gov or FDA Advisory Committee Information Line, 1-800-741-8138 (301-443-0572 in the Washington, DC area). Please call the Information Line for up-to-date information on this meeting.

Dated: January 17, 2014.
Leslie Kux,
Assistant Commissioner for Policy.

[FR Doc. 2014-01312 Filed 1-22-14; 8:45 am]

BILLING CODE 4160-01-P